DEPARTMENT OF ENERGY

Federal Energy Regulatory Commission

Combined Notice of Filings #1

December 18, 2008.

Take notice that the Commission received the following electric rate filings:

Docket Numbers: ER03-774-009.

Applicants: Eagle Energy Partners I, L.P.

Description: Eagle Energy Partners I, LP submits Third Revised First Revised Sheet No. 3 et al. to First Revised Rate Schedule FERC No. 1, to be effective 9/18/07.

Filed Date: 12/12/2008.

Accession Number: 20081215-0224.

Comment Date: 5 p.m. Eastern Time on Friday, January 2, 2009.

Docket Numbers: ER03-1079-010; ER99-1005-010.

Applicants: Kansas City Power & Light Company, Aquila, Inc.

Description: Request for Waiver of Order No. 697.

Filed Date: 12/17/2008.

Accession Number: 20081217-5114.

Comment Date: 5 p.m. Eastern Time on Monday, December 29, 2008.

Docket Numbers: ER07-189-006; ER07-190-006; ER07-191-006; ER07-192-004.

Applicants: Duke Energy Indiana, Inc.; Duke Energy Kentucky, Inc.; Duke Energy Ohio, Inc.; Duke Energy Business Services, Inc.

Description: Duke Energy Indiana, Inc., et al. submits Updated Market Power Analysis under ER07-189, et al.

Filed Date: 12/17/2008.

Accession Number: 20081217-5161.

Comment Date: 5 p.m. Eastern Time on Wednesday, January 7, 2009.

Docket Numbers: ER08-447-000; ER08-448-000.

Applicants: PSEG Fossil LLC; PSEG Nuclear LLC.

Description: PSEG Fossil LLC et al. submits replacement market based rates tariffs with a corrected effective date of 1/15/08.

Filed Date: 12/12/2008.

Accession Number: 20081215-0222.

Comment Date: 5 p.m. Eastern Time on Friday, January 2, 2009.

Docket Numbers: ER08-770-002.

Applicants: Longview Power, LLC.

Description: Longview Power, LLC submits revisions to Rate Schedule FERC No. 1, pursuant to Order 697-A.

Filed Date: 12/12/2008.

Accession Number: 20081215-0223.

Comment Date: 5 p.m. Eastern Time on Friday, January 2, 2009.

Docket Numbers: ER08-1410-002.

Applicants: PacifiCorp.

Description: PacifiCorp submits its compliance filing pursuant to FERC's 10/14/08 order.

Filed Date: 12/15/2008.

Accession Number: 20081217-0068.

Comment Date: 5 p.m. Eastern Time on Monday, January 5, 2009.

Docket Numbers: ER09-70-002.

Applicants: Niagara Mohawk Power Corporation.

Description: Niagara Mohawk Power Corporation submits the amended Carr Street IA in an Order 614-compliant format as Attachment A to the instant filing.

Filed Date: 12/15/2008.

Accession Number: 20081217-0099.

Comment Date: 5 p.m. Eastern Time on Monday, January 5, 2009.

Docket Numbers: ER09-413-000.

Applicants: Ameren Services Company.

Description: Central Illinois Public Service Co. submits an executed agreement for Wholesale Distribution Service.

Filed Date: 12/15/2008.

Accession Number: 20081217-0085.

Comment Date: 5 p.m. Eastern Time on Monday, January 5, 2009.

Docket Numbers: ER09-414-000.

Applicants: Aquila Inc.

Description: Aquila, Inc. requests acceptance of and authorization for its withdrawal of the MISO TOA to be made effective 11/8/08.

Filed Date: 12/15/2008.

Accession Number: 20081217-0084.

Comment Date: 5 p.m. Eastern Time on Monday, January 5, 2009.

Docket Numbers: ER09-416-000.

Applicants: Consolidated Edison Co. of New York, Inc.

Description: Consolidated Edison Co. of New York, Inc. submits notices of cancellation for multiple rate schedules.

Filed Date: 12/15/2008.

Accession Number: 20081217-0080.

Comment Date: 5 p.m. Eastern Time on Monday, January 5, 2009.

Take notice that the Commission received the following open access transmission tariff filings:

Docket Numbers: OA08-36-003.

Applicants: Cleco Power LLC.

Description: Attachment K Compliance Filing of Cleco Power LLC.

Filed Date: 12/17/2008.

Accession Number: 20081217-5129.

Comment Date: 5 p.m. Eastern Time on Wednesday, January 7, 2009.

Docket Numbers: OA08-37-002.

Applicants: Southern Company Services, Inc.

Description: Southern Company Services, Inc. submits its Compliance Filing Made under Protest to their Attachment K Order.

Filed Date: 12/17/2008.

Accession Number: 20081217-5157.

Comment Date: 5 p.m. Eastern Time on Wednesday, January 7, 2009.

Docket Numbers: OA08-46-002; OA07-36-003.

Applicants: South Carolina Electric & Gas Company.

Description: Attachment K Compliance Filing of South Carolina Electric & Gas Company.

Filed Date: 12/17/2008.

Accession Number: 20081217-5158.

Comment Date: 5 p.m. Eastern Time on Wednesday, January 7, 2009.

Docket Numbers: OA08-50-001; OA08-51-002.

Applicants: Progress Energy Carolinas, Inc., Duke Energy Carolinas, LLC.

Description: Compliance Filing of Duke Energy Carolinas, LLC, and Progress Energy Carolinas, Inc. under OA08-50, et al.

Filed Date: 12/17/2008.

Accession Number: 20081217-5121.

Comment Date: 5 p.m. Eastern Time on Wednesday, January 7, 2009.

Docket Numbers: OA09-14-000.

Applicants: Crystal Lake Wind, LLC.

Description: Petition for Waiver of Commission Rules under New Docket OA09-14.

Filed Date: 12/17/2008.

Accession Number: 20081217-5160.

Comment Date: 5 p.m. Eastern Time on Wednesday, January 7, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-30754 Filed 12-24-08; 8:45 am]

BILLING CODE 6717-01-P